DEPARTMENT OF AGRICULTURE

Office of the Secretary

Notice of Solicitation for Membership to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill 11 vacancies on the National Agricultural Research, Extension, Education, and Economics Advisory Board.

DATES: Deadline for Advisory Board member nominations is August 15, 2001.

SUPPLEMENTARY INFORMATION: Section 802 of the Federal Agricultural Improvement and Reform Act of 1966 (The Farm Bill) authorized the creation of the National Agricultural Research, Extension, Education, and Economics Advisory Board. The Board is comprised of 30 members, each representing a specific category related to farming or ranching, food production and processing, forestry research, crop and animal science, land-grant institutions, food retailing and marketing, rural economic development, and natural resource and consumer interest groups, among many others. The Board was first appointed in September 1996 and one-third of the 30 members were appointed for a 1, 2, and 3 year term, respectively.

As a result of the staggered appointments, the terms for 10 of the 30 members who represent 10 specific categories will expire September 30, 2001. Nominations for a 3-year appointment for all 10 of the vacant categories are sought.

In addition, the current member of the category P, Hispanic Serving Institutions, will not be serving out the remainder of his term. Therefore, this slot will be vacant as well and available for a 2-year term nomination. Nominees will be carefully reviewed for their broad expertise, leadership, and relevancy to a category. The full 11 slots to be filled are:

5. National Animal Commodity Organizations

8. National Food Animal Science Societies

1. National Crop, Soil, Agronomy, Horticulture or Weed Sciences Societies

14. Land-Grant Colleges and Universities—1890; including Tuskegee University

15. 1994 Equity in Education Land-Grant Institutions

16. Hispanic-Serving Institutions (2-year term)

T. Food Retailing and Marketing

V. Rural Economic Development

23. National Consumer Interest Groups

24. National Forestry Groups

25. National Conservation or Natural Resource Groups

Nominations are being solicited from organizations, associations, societies, councils, federations, groups, and companies that represent a wide variety of food and agricultural interests. Nominations for one individual who fits several of the categories listed above, or for more than one person who fits one category will be accepted. Please indicate the specific membership category for each nominee. Each nominee must fill out a form AD-755, “Advisory Committee Membership Background Information” (which can be obtained from the contact person below) and will be vetted before selection. Send nominee's name, resume, and their completed AD-755 to the Office of the Advisory Board, Research, Education, and Economics, 1400 Independence Avenue, SW., Room 344-A, JL Whitten Building, Washington, DC 20250-2255, no later than August 15, 2001.

FOR FURTHER INFORMATION CONTACT: Deborah Hanfman, Executive Director, National Agricultural Research, Extension, Education, and Economics Advisory Board, 1400 Independence Avenue, SW., Room 344-A, JL Whitten Building, Washington, DC 20250-2255. Telephone 202-720-3684. Fax: 202-720-6199, or e-mail, dhanfman@reeusda.gov.

Done at Washington, DC this 27th day of June 2001.
Dawn R. Riley,
Acting Deputy Under Secretary, Research, Education, and Economics.

[FR Doc. 01-16783 Filed 7-3-01; 8:45 am]

BILLING CODE 3410-22-P